ENVIRONMENTAL PROTECTION AGENCY

[FRL-9991-38-OW]

Open Meeting of the Environmental Financial Advisory Board

AGENCY: Environmental Protection Agency (EPA).

ACTION: Notice.

SUMMARY: The EPA's Environmental Financial Advisory Board (EFAB) will hold a public meeting on April 17-18, 2019 in Washington, DC. The EFAB is an EPA advisory committee chartered under the Federal Advisory Committee Act to provide advice and recommendations to EPA on creative approaches to funding environmental programs, projects, and activities.

The purpose of this meeting is to hear from informed speakers on environmental finance issues and EPA priorities; to discuss recommendations from EFAB work products; to discuss changes to the EFAB's process of selecting new topics and developing recommendations; and to discuss stormwater funding and financing. The meeting is open to the public; however, seating is limited. All members of the public who wish to attend the meeting must register in advance, no later than Wednesday, April 10, 2019.

DATES: The full board meeting will be held Wednesday, April 17, 2019 and Thursday, April 18, 2018. Members of the public who wish to attend the meeting should register by Wednesday, April 10, 2019 at https://epaefabapril2019.eventbrite.com.

ADDRESSES: Intercontinental Washington, DC—The Wharf, 801 Wharf St. SW, Washington, DC 20024.

For Accomodations: For information on access or services for individuals with disabilities, or to request accommodations for a disability, please contact Tara Johnson at (202) 564-6186 or johnson.tara@epa.gov at least 10 business days prior to the meeting to allow as much time as possible to process your request.

Dated: March 18, 2019.
Andrew Sawyers,
Director, Office of Wastewater Management, Office of Water.

[FR Doc. 2019-05771 Filed 3-26-19; 8:45 am]

BILLING CODE 6560-50-P